INTERNATIONAL TRADE COMMISSION

[USITC SE-19-029]

Sunshine Act Meetings

AGENCY HOLDING THE MEETING: United States International Trade Commission.

TIME AND DATE: August 2, 2019 at 11:00 a.m.

PLACE: Room 101, 500 E Street SW, Washington, DC 20436. Telephone: (202) 205-2000.

STATUS: Open to the public.

MATTERS TO BE CONSIDERED:

1. Agendas for future meetings: None.

2. Minutes.

3. Ratification List.

4. Vote on Inv. Nos. 701-TA-609 and 731-TA-1421 (Final) (Steel Trailer Wheels from China). The Commission is currently scheduled to complete and file its determinations and views of the Commission by August 22, 2019.

5. Vote on Inv. Nos. 701-TA-450 and 731-TA-1122 (Second Review) (Laminated Woven Sacks from China). The Commission is currently scheduled to complete and file its determinations and views of the Commission by August 20, 2019.

6. Vote on Inv. No. 731-TA-1123 (Second Review) (Steel Wire Garment Hangers from China). The Commission is currently scheduled to complete and file its determination and views of the Commission by August 22, 2019.

7. Vote on Inv. No. 731-TA-749 (Fourth Review) (Persulfates from China). The Commission is currently scheduled to complete and file its determination and views of the Commission by August 15, 2019.

8. Outstanding action jackets: None.

The Commission is holding the meeting under the Government in the Sunshine Act, 5 U.S.C. 552(b). In accordance with Commission policy, subject matter listed above, not disposed of at the scheduled meeting, may be carried over to the agenda of the following meeting.

By order of the Commission.
Issued: July 22, 2019.
William Bishop,
Supervisory Hearings and Information Officer.

[FR Doc. 2019-15878 Filed 7-23-19; 11:15 am]

BILLING CODE 7020-02-P